DEPARTMENT OF THE INTERIOR

National Park Service

Notice of Minor Boundary Revision, Indiana Dunes National Lakeshore, Indiana, Under the Authority of Public Law 94-549, Enacted October 18, 1976, (16 U.S.C., Section 460u-19) and Section 7 (c) of the Land and Water Conservation Fund Act of 1965, as Amended [16 U.S.C., Section 460l-9(c)]

SUMMARY: This notice announces a minor boundary revision of the boundaries of Indiana Dunes National Lakeshore, Indiana, to include eight (8) parcels of land.

FOR FURTHER INFORMATION CONTACT: Superintendent, Indiana Dunes National Lakeshore, 1100 North Mineral Springs Road, Porter, Indiana 46304-1299, or by telephone at 219-926-7561 ext. 429.

SUPPLEMENTARY INFORMATION: Notice is hereby provided that the boundaries of Indiana Dunes National Lakeshore are revised. This revision is effective upon publication of this notice, to include certain parcels of real property situated in Porter County and Lake County, Indiana. These parcels contain 3.99 acres of land, more or less, in Porter County and 58.48 acres, more or less, in Lake County, Indiana. The parcels are identified as follows:

Porter County:

Tracts 109-15, 109-16, 109-18, 109-19, and 109-20 on Segment Map 109, Drawing Number 626/35,109 dated February 2002.

Lake County:

Tract 13-138 on Segment Map 13, Drawing Number 626/35,013 dated February, 2002. and

Tracts 12-113 and 12-114 on Segment Map 12, Drawing Number 626/35,012 dated February 2002.

All of the above-cited Segment Maps are on file at the following locations:

U.S. Department of the Interior, National Park Service, Midwest Region, Land Resources, 1709 Jackson Street, Omaha, Nebraska 68102-2571.

Indiana Dunes National Lakeshore, 1100 North Mineral Springs Road, Porter, Indiana 46304-1299.

Dated: March 15, 2002.
William W. Schenk,
Regional Director, Midwest Region, Department of the Interior, National Park Service.

[FR Doc. 02-11135 Filed 5-3-02; 8:45 am]

BILLING CODE 4310-70-P